DEPARTMENT OF DEFENSE

Office of the Secretary

[Docket ID: DOD-2017-OS-0040]

Proposed Collection; Comment Request

AGENCY: Defense Security Service, DoD.

ACTION: 60-day information collection notice.

SUMMARY: In compliance with the Paperwork Reduction Act of 1995, the Defense Security Service announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 23, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the DSS Office of Information Management, Russell Knox Building, 27130 Telegraph Rd., Quantico, VA 22134 or email dss.niss@mail.mil.

SUPPLEMENTARY INFORMATION:

Title; Associated Form; and OMB Number: National Industrial Security System (NISS); OMB Control Number 0704-XXXX.

Needs and Uses: The information collection requirement is necessary for DSS to oversee the National Industrial Security Program (NISP) pursuant to Executive Order 12829. The National Industrial Security System (NISS) will become the repository of records related to the maintenance of information pertaining to contractor facility security clearances (FCL) and contractor capabilities to protect classified information in its possession.

Affected Public: Cleared contractor companies participating in the NISP.

Annual Burden Hours: 11,671.

Number of Respondents: 11,671.

Responses per Respondent: 1.

Annual Responses: 11,671.

Average Burden per Response: 60 minutes.

Frequency: On occasion.

Respondents are security professionals who provide information to DSS in order to process facility security clearances (FCL), report changes of the facility that may affect the FCL, and managing incident response. In addition to this standard processing, NISS will enable security staff to communicate with their DSS representative pursuant to requirement DoD 5220.22-M, National Industrial Security Program Operating Manual. The NISS will be an integrated automated solution that will facilitate efficient execution of the Agency's core mission. NISS will allow users to manage large amounts of information through increased automated workflows to ensure accuracy, create linkages in data, and close the gap of missing data elements.

Dated: August 16, 2017.
Aaron Siegel,
Alternate OSD Federal Register Liaison Officer, Department of Defense.

[FR Doc. 2017-17686 Filed 8-21-17; 8:45 am]

BILLING CODE 5001-06-P